DEPARTMENT OF HOUSING AND URBAN DEVELOPMENT

[Docket No. FR-7104-N-09; OMB Control No.: 2577-0200]

60-Day Notice of Proposed Information Collection: Section 184 and 184A Loan Guarantee Program

AGENCY: Office of the Assistant Secretary for Public and Indian Housing (PIH), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 12, 2025.

ADDRESSES: Interested persons are invited to submit comments regarding this proposal. Written comments and recommendations for the proposed information collection can be sent within 60 days of publication of this notice to www.regulations.gov by searching the Docket Number of this notice and following the prompts. Interested persons are also invited to submit comments and recommendations via post. Comments and recommendations should be postmarked within 60 days of the publication of this notice, refer to the proposal by name and/or OMB Approval Number (located at the top of this notice), and be sent to: Leea Thornton, Program Analyst, Department of Housing and Urban Development, 451 7th Street SW, Washington, DC 20410-5000.

FOR FURTHER INFORMATION CONTACT: Leea Thornton, Department of Housing and Urban Development, 451 7th Street SW, Washington, DC 20410; email Leea Thornton at PIH-PRAPublicComments@hud.gov; or telephone (202) 402-6455. This is not a toll-free number. HUD welcomes and is prepared to receive calls from individuals who are deaf or hard of hearing, as well as individuals with speech or communication disabilities. To learn more about how to make an accessible telephone call, please visit https://www.fcc.gov/consumers/guides/telecommunications-relay-service-trs. Copies of documents submitted to OMB may be obtained from Ms. Thornton.

SUPPLEMENTARY INFORMATION: This notice informs the public that HUD is seeking approval from OMB for the information collection described in Section A.

A. Overview of Information Collection

Title of Information Collection: Information Collection Related to the Administration of the Section 184 and Section 184A Programs.

OMB Approval Number: 2577-0200.

Type of Request: Revision of currently approved collection.

Form Number: HUD-50097, HUD-50098, HUD-50101, HUD-50102, HUD-50103, HUD-50104, HUD-50105, HUD-50106, HUD-50107, HUD-50108, HUD-50109, HUD-50111, HUD-50114, HUD-50129, HUD-50131, and HUD-50175.

Description of the need for the information and proposed use: The information collected on the forms is to be provided by Tribes, lenders, borrowers, servicers and building inspectors with loans guaranteed by the Section 184 and Section 184A Program. With respect to the information collection from Tribes, the information will be used by HUD to determine the land status and jurisdiction for Section 184 loans on Tribal Trust lands. In particular, HUD requires the submission of land status information by the Tribe and requires a Tribal contact and Tribal official signature affirming it has jurisdiction over the property that will be used as the security interest in the Section 184 loan. With respect to the information collection from lenders and home inspectors, the information will be used to determine whether a loan is eligible for a loan guarantee under the Section 184 Indian Housing Loan Guarantee Program and/or the Section 184A Native Hawaiian Housing Loan Guarantee Program. Specifically these forms will be used for: (1) requesting a case number from HUD; (2) requesting a firm commitment of the loan guarantee certificate from HUD; (3) providing additional, program specific information as an addendum to the Uniform Residential Loan Application; (4) providing HUD a justification for an escrow account and an assurance of completion for work to be done on the property after loan closing; (5) confirming borrower acknowledgment for the use of loan funds in a Section 184 or Section 184A Single Close Construction loan; (6) providing additional information to HUD when the property is a condominium; (7) submitting builders certification of plans, specifications, and changes to approved drawings and plans; and (8) providing an analysis of a borrower's mortgage credit, settlement costs, and mortgage calculations for the loan guarantee certificate application. Housing inspectors will submit information to HUD regarding inspections performed when a Section 184 loan is used for the construction of a home. This information collection also includes administrative documents for when a lender requests a loan guarantee claim payment and when reporting a change in lender or servicer on the Section 184 or the Section 184A loan.

With respect to information collected from the servicers, the information will be used by HUD to approve or deny a servicer's request from HUD for an extension of the filing of first legal action or an increase in the property preservation costs. The information collected also includes when a servicer requests variances to a pre-foreclosure sale.

Annual Reporting Burden: The estimated total number of respondents for all forms included in this collection is 6,400. Four of the forms (HUD-50097, HUD-50111, HUD-50131, and HUD-50175) are prepared by a single respondent (participating program lender) on a per loan basis. The annual loan volume estimate is 3,750 loans. The estimated total responses for the collection is 17,650, which represents the estimated total number of all forms used each year. The total annual burden of this collection is expected to be 2,210 hours. The total estimated annual cost for this information collection is $54,320.

Form No. | Form name | Number of respondents | Frequency | Total responses | Hours per response | Total hours | Cost per hour | Total cost
HUD-50097 | Lender Reservation of Funds Request | 3,750 | 1 | 3,750 | 0.083 | 313 | $23.40 | $7,313
HUD-50098 | Lender Assurance of Completion | 350 | 1 | 350 | 0.050 | 18 | 23.40 | 410
HUD-50101 | Single Close Construction Rehab Acknowledgement | 350 | 1 | 350 | 0.033 | 12 | 23.40 | 273
HUD-50102 | Condominium Loan Level Single-Unit Approval Questionnaire | 100 | 1 | 100 | 0.133 | 13 | 23.40 | 312
HUD-50103 | Extension of Time Request | 150 | 1 | 150 | 0.250 | 38 | 40.62 | 1,523
HUD-50104 | Exceed Cost limit for PPP Request | 150 | 1 | 150 | 0.250 | 38 | 40.62 | 1,523
HUD-50105 | Compliance Inspection Report | 350 | 1 | 350 | 0.250 | 88 | 35.04 | 3,066
HUD-50106 | Mortgage Record Change | 100 | 1 | 100 | 0.250 | 25 | 23.40 | 585
HUD-50107 | Builders Certification of Plans, Specs and Site | 350 | 1 | 350 | 0.250 | 88 | 23.40 | 2,048
HUD-50108 | Pre-foreclosure Sale Program Request for Variance | 25 | 1 | 25 | 0.250 | 6 | 40.62 | 254
HUD-50109 | Request for Acceptance of Changes Approved Drawings and Specifications | 175 | 1 | 175 | 0.500 | 88 | 23.40 | 2,048
HUD-50111 | Addendum to Uniform Residential Loan Application | 3,750 | 1 | 3,750 | 0.133 | 500 | 23.40 | 11,700
HUD-50114 | Tribal Land Status Jurisdiction | 450 | 1 | 450 | 0.033 | 15 | 36.59 | 549
HUD-50129 | Loan Guarantee Fee Refund Request | 100 | 1 | 100 | 0.333 | 33 | 23.40 | 780
HUD-50131 | Case Number Request Form | 3,750 | 1 | 3,750 | 0.083 | 313 | 23.40 | 7,313
HUD-50175 | Section 184 MCAW | 3,750 | 1 | 3,750 | 0.167 | 625 | 23.40 | 14,625
Totals |  | 6,400 |  | 17,650 |  | 2,210 |  | 54,320

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comments in response to these questions.

C. Authority

Section 2 of the Paperwork Reduction Act of 1995, 44 U.S.C. 3507.

Laura Kunkel,
Acting Director, Office of Policy, Program and Legislative Initiatives.

[FR Doc. 2025-10828 Filed 6-12-25; 8:45 am]

BILLING CODE 4210-67-P